DEPARTMENT OF HEALTH AND HUMAN SERVICES

Administration for Children and Families

Proposed Information Collection Activity; Operation Allies Welcome Afghan Supplement Survey (New Collection)

AGENCY: Office of Refugee Resettlement, Administration for Children and Families, U.S. Department of Health and Human Services.

ACTION: Request for public comments.

SUMMARY: The Office of Refugee Resettlement (ORR), Administration for Children and Families (ACF), U.S. Department of Health and Human Services is proposing to collect data for a new Operation Allies Welcome (OAW) Afghan Supplement Survey.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Under the Afghanistan Supplemental Appropriations Act, 2022, and Additional Afghanistan Supplemental Appropriations Act, 2022, Congress authorized ORR to provide resettlement assistance and other benefits available to refugees to specific Afghan populations in response to their emergency evacuation and resettlement. The OAW Afghan Supplement Survey is a sample survey of Afghan households entering the United States under OAW, collecting both household- and individual-level information. It will generate nationally representative data on OAW Afghans' well-being, integration outcomes, and progress towards self-sufficiency. Data collected will help ORR and service providers better understand the impact of services and on-going service needs of OAW Afghan populations.

Respondents: OAW Afghan populations.

Annual Burden Estimates
Instrument | Total number of respondents | Total number of responses per respondent | Average burden hours per response | Total/annual burden hours *
OAW Afghan Supplement Survey Contact Update Requests | 1,100 | 1 | 0.05 | 55
OAW Afghan Supplement Survey | 1,100 | 1 | 0.92 | 1,012
* Survey is one-time and will be completed within the 1st year.

Estimated Total Annual Burden Hours: 1,067.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Division C, Title III, Public Law 117-43, 135 Stat. 374; Division B, Title III, Public Law 117-70, 1102 Stat. 4.

John M. Sweet, Jr.,
ACF/OPRE Certifying Officer.

[FR Doc. 2023-05980 Filed 3-22-23; 8:45 am]

BILLING CODE 4184-45-P